DEPARTMENT OF TRANSPORTATION

Federal Transit Administration

TIGGER and Clean Fuels Grant Program Funds

AGENCY: Federal Transit Administration (FTA), DOT.

ACTION: TIGGER and Clean Fuels Grant Program Announcement of Project Selections.

SUMMARY: The U.S. Department of Transportation's (DOT) Federal Transit Administration (FTA) announces the selection of projects funded in support of the Transit Investments for Greenhouse Gas and Energy Reduction (TIGGER) program and Clean Fuels Grant program which is enhanced with Section 5309 Bus and Bus Facilities program funds. This funding supports the U.S. Department of Transportation's environmental sustainability efforts, which were announced in FTA's notice of funding availability (NOFA) on April 13, 2010. The TIGGER program makes funds available for capital investments that will reduce the energy consumption or greenhouse gas emissions of public transportation systems. The Clean Fuels Grant program makes funds available to assist nonattainment and maintenance areas in achieving or maintaining the National Ambient Air Quality Standards for ozone and carbon monoxide and supports emerging clean fuel and advanced propulsion technologies for transit buses and markets for those technologies.

FOR FURTHER INFORMATION CONTACT: Successful applicants should contact the appropriate FTA Regional office (Appendix) for specific information regarding applying for the funds or proposal specific questions. For general program information on TIGGER, contact Walter Kulyk, Office of Mobility Innovation, (202) 366-4995, e-mail: walter.kulyk@dot.gov. For general program information on the Clean Fuels Grant program, contact Vanessa Williams, Office of Program Management, at (202) 366-4818, e-mail: vanessa.williams@dot.gov.

SUPPLEMENTARY INFORMATION: A total of $75 million was available for FTA's TIGGER program and $81 million for the Clean Fuels Grant program. In response to the NOFA, FTA received a total of 274 proposals requesting over $1.4 billion in program funds. The project proposals were evaluated based on the criteria detailed in the April 13, 2010 Notice of Funding Availability. Projects funded with Clean Fuels Grant and Bus program funds are included in Table 1. Projects funded with the TIGGER program funds are included in Table 2. Grantees selected for competitive discretionary funding should work with their FTA regional office to finalize the application in FTA's Transportation Electronic Award Management (TEAM) system, so that funds can be obligated expeditiously. Funds must be used for the purposes specified in the competitive application. Clean Fuels and Bus projects can be funded at up to 83 percent Federal share for eligible vehicle purchases. The 83 percent share is a blended figure representing 80 percent of the vehicle and 90 percent of the vehicle-related equipment to be acquired in compliance with the Clean Air Act. The 83 percent share does not apply to facilities, for which the costs are more variable. The eligibility of facility-related cost element at the 90 percent share will be reviewed for eligibility of the higher Federal share on a case-by-case basis as part of the grant application process. The FY 2010 Appropriations Act allows a 90 percent Federal share for total cost of a biodiesel bus and 90 percent Federal share for the net capital cost of factory installed hybrid electric propulsion systems and any equipment related to such a system. TIGGER projects can be funded at up to 100 percent Federal share. A discretionary project identification number has been assigned to each project for tracking purposes and must be used in the TEAM application. Selected projects have pre-award authority as of November 4, 2010. Post-award reporting requirements include submission of the Financial Federal Report and Milestone reports in TEAM as appropriate (see FTA.C.5010.1D). Recipients of TIGGER funds must report on an annual basis: (1) Actual annual energy consumed within the project scope attributable to the investment for the energy consumption projects; (2) actual greenhouse gas emissions within the project scope attributable to the investment for greenhouse gas reduction projects; and, (3) actual annual reductions or increase in operating costs to the investment for all projects.

The grantee must comply with all applicable Federal statutes, regulations, executive orders, FTA circulars, and other Federal administrative requirements in carrying out the project supported by the FTA grant. The Clean Fuels Grant and Bus program funds allocated in this announcement must be obligated in a grant by September 30, 2013. The TIGGER funds allocated in this announcement must be obligated by September 30, 2012.

Issued in Washington, DC, this 26th day of January, 2011.
Peter Rogoff,
Administrator.

Appendix

FTA Regional and Metropolitan Offices
Mary E. Mello, Regional Administrator, Region 1—Boston, Kendall Square, 55 Broadway, Suite 920, Cambridge, MA 02142-1093, Tel. 617-494-2055 | Robert C. Patrick, Regional Administrator, Region 6—Ft. Worth, 819 Taylor Street, Room 8A36, Ft. Worth, TX 76102, Tel. 817-978-0550.
States served: Connecticut, Maine, Massachusetts, New Hampshire, Rhode Island, and Vermont | States served: Arkansas, Louisiana, Oklahoma, New Mexico and Texas.
Brigid Hynes-Cherin, Regional Administrator, Region 2—New York, One Bowling Green, Room 429, New York, NY 10004-1415, Tel. 212-668-2170 | Mokhtee Ahmad, Regional Administrator, Region 7—Kansas City, MO, 901 Locust Street, Room 404, Kansas City, MO 64106, Tel. 816-329-3920.
States served: New Jersey, New York | States served: Iowa, Kansas, Missouri, and Nebraska.
New York Metropolitan Office, Region 2—New York, One Bowling Green, Room 428, New York, NY 10004-1415, Tel. 212-668-2202
Letitia Thompson, Regional Administrator, Region 3—Philadelphia, 1760 Market Street, Suite 500, Philadelphia, PA 19103-4124, Tel. 215-656-7100 | Terry Rosapep, Regional Administrator, Region 8—Denver, 12300 West Dakota Ave., Suite 310, Lakewood, CO 80228-2583, Tel. 720-963-3300.
States served: Delaware, Maryland, Pennsylvania, Virginia, West Virginia, and District of Columbia | States served: Colorado, Montana, North Dakota, South Dakota, Utah, and Wyoming.
Philadelphia Metropolitan Office, Region 3—Philadelphia, 1760 Market Street, Suite 500, Philadelphia, PA 19103-4124, Tel. 215-656-7070
Washington, D.C. Metropolitan Office, 1990 K Street, NW., Room 510, Washington, DC 20006, Tel. 202-219-3562
Yvette Taylor, Regional Administrator, Region 4—Atlanta, 230 Peachtreet Street, NW., Suite 800, Atlanta, GA 30303, Tel. 404-865-5600 | Leslie T. Rogers, Regional Administrator, Region 9—San Francisco, 201 Mission Street, Room 1650, San Francisco, CA 94105-1926, Tel. 415-744-3133.
States served: Alabama, Florida, Georgia, Kentucky, Mississippi, North Carolina, Puerto Rico, South Carolina, Tennessee, and Virgin Islands | States served: American Samoa, Arizona, California, Guam, Hawaii, Nevada, and the Northern Mariana Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789 | Rick Krochalis, Regional Administrator, Region 10—Seattle, Jackson Federal Building, 915 Second Avenue, Suite 3142, Seattle, WA 98174-1002, Tel. 206-220-7954.
States served: Illinois, Indiana, Michigan, Minnesota, Ohio, and Wisconsin | States served: Alaska, Idaho, Oregon, and Washington.
Chicago Metropolitan Office, Region 5—Chicago, 200 West Adams Street, Suite 320, Chicago, IL 60606, Tel. 312-353-2789

BILLING CODE 5001-P

[FR Doc. 2011-2107 Filed 1-28-11; 8:45 am]

BILLING CODE C